DEPARTMENT OF HOUSING AND URBAN DEVELOPMENT

[Docket No. FR-4547-FA-02]

Announcement of Funding Awards for the Rural Housing and Economic Development Program Fiscal Year 2000

AGENCY: Office of the Assistant Secretary for Community Planning and Development, HUD.

ACTION: Announcement of funding awards.

SUMMARY: In accordance with section 102 (a)(4)(C) of the Department of Housing and Urban Development Reform Act of 1989, this announcement notifies the public of funding decisions made by the Department in a competition for funding under the Notice of Funding Availability (NOFA) for the Rural Housing and Economic Development Program. This announcement contains the names of the awardees and the amounts of the awards made available by HUD.

FOR FURTHER INFORMATION CONTACT: Jackie W. Mitchell, Director, Office of Rural Housing and Economic Development, Office of Economic Development, Office of Community Planning and Development, 451 7th Street, SW, Washington, DC 20410; telephone (202) 708-2290 (this is not a toll-free number). Hearing- and speech-impaired persons may access this number via TTY by calling the Federal Relay Service toll-free at 1-800-877-8339. For general information on this and other HUD programs, call Community Connections at 1-800-998-9999 or visit the HUD Website at http://www.hud.gov.

SUPPLEMENTARY INFORMATION: The Rural Housing and Economic Development program was authorized by the Department of Veteran's Affairs, Housing and Urban Development and Independent Agencies Appropriations Act of 1999. The competition was announced in the NOFA published in the Federal Register on February 16, 2000 (65 FR 7970). Applications were rated and selected for funding on the basis of selection criteria contained in that Notice.

The Catalog of Federal Domestic Assistance number for this program is 14.250.

The Rural Housing and Economic Development Program is designed to build capacity at the State and local level for rural housing and economic development and to support innovative housing and economic activities in rural areas. Eligible applicants are local rural non-profit organizations, community development corporations, Indian tribes, and State housing finance agencies. The funds made available under this program were awarded competitively, through a selection process conducted by HUD in consultation with the United States Department of Agriculture.

A total of $24,749,997 was awarded to 103 projects nationwide. In accordance with section 102(a)(4)(C) of the Department of Housing and Urban Development Reform Act of 1989 (103 Stat. 1987, 42 U.S.C. 3545), the Department is publishing the grantees and amounts of the awards in Appendix A to this document.

Dated: August 23, 2000.
Cardell Cooper,
Assistant Secretary for Community Planning and Development.

Appendix A—FY 2000 Rural Housing and Economic Development Competitive Grants

Applicant | State | City | Grant
United Presbyterians of Wilcox County | AL | Catherine | 600,000
Federation of Southern Cooperatives/Land Assistance | AL | Epes | 237,800
Upper Sand Mountain United Methodist Larger Parish, Inc. | AL | Sylvania | 600,000
Alabama Rural Heritage Foundation, Inc. | AL | Thomaston | 100,000
Calista Corporation, Inc. | AK | Anchorage | 50,000
Native Village of Kotzebue | AK | Kotzebue | 240,000
Oagan Taygunguin Tribe of Sand Point | AK | Sand Point | 97,643
Tatitlek IRA Council | AK | Tatitlek | 50,000
Comite De Bein Estar, Inc. | AZ | San Luis | 183,483
Housing America Corporation | AZ | Somerton | 50,000
Prep Microbusiness and Housing Development Corporation | AZ | Tucson | 500,000
California State University Foundation at Fresno | CA | Fresno | 50,000
Habitat for Humanity Fresno, Inc. | CA | Fresno | 200,000
North Fork Community Development Council, Inc. | CA | North Fork | 455,800
Walking Shield American Indian Society | CA | Orange | 500,000
Torres Martinez Desert Cahuilla Indians | CA | Thermal | 600,000
Torres Martinez Desert Cahuilla Indians | CA | Thermal | 50,000
Self-Help Enterprises | CA | Visalia | 100,000
Rural California Housing Corporation | CA | West Sacramento | 50,000
Southwest Community Resources, Inc. | CO | Durango | 50,000
Region 10 League for Economic Assistance & Planning | CO | Montrose | 50,000
National Council on Agriculture Life & Labor Research | DE | Dover | 50,000
Immokalee Friendship House | FL | Immokalee | 180,500
Centro Campesino Farmworker Center, Inc. | FL | Florida City | 500,000
Everglades Community Association, Inc. | FL | Florida City | 500,000
Housing and Economic Leadership Partners, Inc. | GA | Athens | 438,400
Opportunities Now, Inc. (ACTION) | GA | Athens | 100,000
Lower Chattahoochee Regional Development Center | GA | Columbus | 50,000
Molokai Community Service Council | HI | Kaunakakai | 50,000
Self-Help Housing Corporation of Hawaii | HI | Honolulu | 500,000
Idaho Migrant Council, Inc. | ID | Caldwell | 50,000
Nez Perce Tribe of Idaho | ID | Lapwai | 50,000
Shawnee Development Council, Inc. | IL | Karnak | 50,000
Southern VI Corporation | IN | Huntingburg | 495,000
Federation of Appalachian Housing Enterprises | KY | Berea | 502,425
Federation of Appalachian Housing Enterprises | KY | Berea | 150,000
Community Ventures Corporation, Inc. | KY | Lexington | 100,000
Frontier Housing, Inc. | KY | Morehead | 100,000
Enterprise Foundation, Inc. | MD | Columbia | 50,000
Maine Department of Economic and Community Development | ME | Augusta | 500,000
Maine State Housing Authority | ME | Augusta | 600,000
Northern Maine Development Commission | ME | Caribou | 50,000
Northern Lakes Economic Alliance | MI | Boyne City | 50,000
Little River Band of Ottawa Indians | MI | Manistee | 500,000
Midwest Minnesota Community Development Corporation | MN | Detroit Lakes | 500,000
Prairie Island Indian Community | MN | Welch | 50,000
White Earth Reservation Housing Authority | MN | White Earth | 183,483
Three Rivers Community and Economic Development | MS | Itta Bena | 50,000
Human Resource Development Council of District IX, Inc | MT | Bozeman | 50,000
Blackfeet Tribe | MT | Browning | 500,000
Ktunaza Community Development Corporation | MT | Elmo | 50,000
Bear Paw Development Corporation of Northern Montana | MT | Havre | 100,000
Fort Peck Assinboine & Sioux Tribes | MT | Poplar | 200,000
Lake County Community Development Corporation | MT | Ronan | 551,875
Northeast Nebraska Economic Development District | NE | Norfolk | 500,000
Northeast Nebraska Economic Development District | NE | Norfolk | 100,000
Pryamid Lake Paiute Tribe | NV | Nixon | 495,291
Monadnock Economic Development Corporation | NH | Keene | 50,000
Affordable Housing, Education and Development, Inc | NH | Littleton | 240,000
New Mexico Mortgage Finance Authority | NM | Abiquiu | 600,000
Community Action Agency of SNM, Inc. | NM | Las Cruces | 200,000
Mesilla Valley Economic Development | NM | Las Cruces | 200,000
Chautauqua Home Rehabilitation and Improvement Corporation | NY | Mayville | 566,600
Waccamaw-Siouan Development Association, Inc | NC | Bolton | 50,000
Eastern Band of Cherokee Indians | NC | Cherokee | 500,000
Lumbee Regional Development Association, Inc | NC | Pembroke | 50,000
East Tarboro-Princeville CDC | NC | Tarboro | 200,000
Fort Berthold Housing Authority | ND | New Town | 500,000
Fort Berthold Housing Authority | ND | New Town | 50,000
Corporation for Ohio Appalachian Development | OH | Athens | 105,904
Adams-Brown Counties Economic Opportunities, Inc | OH | Georgetown | 73,538
Alabama/Quassarte Tribal Town | OK | Henryetta | 50,000
Modoc Tribe of Oklahoma | OK | Miami | 50,000
Cherokee Nation | OK | Tahlequah | 360,000
Community Connection of Northeast Oregon, Inc | OR | LaGrande | 200,000
Campaign for Equal Justice | OR | Portland | 100,000
Umpqua Community Development Corporation | OR | Rosenburg | 50,000
Williamsburg Enterprise Community Comm. | SC | Kingstree | 50,000
Oti Kaga, Inc. | SD | Eagle Butte | 100,000
Oglala Sioux Tribe Partnership for Housing, Inc | SD | Pine Ridge | 50,000
Rosebud Sioux Tribe | SD | Rosebud | 227,000
Creative Compassion, Inc. | TN | Crossville | 100,000
Buffalo Valley, Inc. | TN | Hohenwald | 50,000
Community Development Corporation of Northeast Tennessee | TN | Johnson City | 498,150
Eastern Eight, CDC, Inc. | TN | Johnson City | 239,000
Douglas Cherokee Economic Authority | TN | Morristown | 459,069
Middle Rio Grande Development Foundation Futuro Communities | TX | Carrizo Springs | 199,117
Community Development Corporation of Brownsville | TX | Brownsville | 500,000
Rio Grande Valley Empowerment Zone Corporation | TX | Mercedes | 600,000
Community Action Council of South Texas | TX | Rio Grande City | 183,483
Community Development Corporation of Utah | UT | Salt Lake City | 395,600
Virginia Eastern Shore Economic Empowerment and Housing | VA | Nassawadox | 136,000
Crossroads Shelter, Inc. | VA | Wytheville | 50,000
Department of Community, Trade and Economic Development | WA | Olympia | 183,483
Washington State Housing Finance Commission | WA | Seattle | 183,483
Northwest Regional Facilitators | WA | Spokane | 187,350
Spokane Indian Housing Authority | WA | Wellpinit | 500,000
Wisconsin Business Innovation Corporation | WI | Spooner | 510,350
CAP Services, Inc. | WI | Stevens Point | 440,000
Mountain Partners in Community Development | WV | Elkins | 533,204
The Conservation Fund | WV | Shepherdstown | 183,483
The Conservation Fund | WV | Shepherdstown | 50,000
STOP Abusive Family Environments, Inc. | WV | Welch | 183,483

[FR Doc. 00-22353 Filed 8-30-00; 8:45 am]

BILLING CODE 4210-29-P